DEPARTMENT OF TRANSPORTATION

Federal Aviation Administration

14 CFR Part 39

[Docket No. FAA-2004-19221; Directorate Identifier 2004-CE-28-AD; Amendment 39-13935; AD 2005-01-11]

RIN 2120-AA64

Airworthiness Directives; Pilatus Aircraft Ltd. Models PC-12 and PC-12/45 Airplanes

AGENCY: Federal Aviation Administration (FAA), DOT.

ACTION: Final rule.

SUMMARY: The FAA adopts a new airworthiness directive (AD) for all Pilatus Aircraft Ltd. (Pilatus) Models PC-12 and PC-12/45 airplanes. This AD requires you to check the airplane logbook to determine whether any main landing gear (MLG) actuator (part number (P/N) 960.30.01.103) with serial numbers (SNs) 830E through 881E is installed. If any MLG actuator with one of these SNs is installed, you are required to replace the MLG actuator with a P/N 960.30.01.103 actuator that has a SN other than 830E through 881E. The pilot is allowed to do the logbook check. If the pilot can positively determine that no MLG actuator with one of these SNs is installed, then no further action is required. This AD results from mandatory continuing airworthiness information (MCAI) issued by the airworthiness authority for Switzerland. We are issuing this AD to prevent failure of the MLG actuator caused by an incorrect heat treating process, which could result in loss of hydraulic extension/retraction of the MLG. This failure could lead to loss of control during ground operations.

DATES: This AD becomes effective on February 22, 2005.

As of February 22, 2005, the Director of the Federal Register approved the incorporation by reference of certain publications listed in the regulation.

ADDRESSES: To get the service information identified in this AD, contact Pilatus Aircraft Ltd., Customer Liaison Manager, CH-6371 Stans, Switzerland; telephone: +41 41 619 6208; facsimile: +41 41 619 7311; e-mail: SupportPC12@pilatus-aircraft.com or from Pilatus Business Aircraft Ltd., Product Support Department, 11755 Airport Way, Broomfield, Colorado 80021; telephone: (303) 465-9099; facsimile: (303) 465-6040. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-19221.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What events have caused this AD? The Federal Office for Civil Aviation (FOCA), which is the airworthiness authority for Switzerland, recently notified FAA that an unsafe condition may exist on all Pilatus Aircraft Ltd. (Pilatus) Models PC-12 and PC-12/45 airplanes. The FOCA reports that some components of main landing gear (MLG) actuators (part number (P/N) 960.30.01.103 with serial numbers (SNs) 830E through 881E) were incorrectly heat treated during manufacture. Components in this condition can decrease the specified fatigue life of the actuators.

It is possible that these components could have been removed and then installed in other Pilatus Models PC-12 and PC-12/45 airplanes.

What is the potential impact if FAA took no action? Failure of the MLG actuator could result in loss of hydraulic extension/retraction of the MLG. This failure could lead to loss of control during ground operations.

Has FAA taken any action to this point? We issued a proposal to amend part 39 of the Federal Aviation Regulations (14 CFR part 39) to include an AD that would apply to all Pilatus Aircraft Ltd. (Pilatus) Models PC-12 and PC-12/45 airplanes. This proposal was published in the Federal Register as a notice of proposed rulemaking (NPRM) on November 1, 2004 (69 FR 63336). The NPRM proposed to require you to check the airplane logbook to determine whether any MLG actuator (P/N 960.30.01.103) with SNs 830E through 881E is installed. If any MLG actuator with one of these SNs is installed, the NPRM would require you to replace the MLG actuator with a P/N 960.30.01.103 actuator that has a SN other than 830E through 881E. The pilot would be allowed to do the logbook check. If the pilot can positively determine that no MLG actuator with one of these SNs is installed, no further action would be required.

Comments

Was the public invited to comment? We provided the public the opportunity to participate in developing this AD. The following presents the comment received on the proposal and FAA's response to the comment:

Comment Issue: Limit AD Serial Number Effectivity

What is the commenter's concern? The commenter states that it would be more appropriate to have the AD address only the serial number airplanes on which the parts were installed. Further, the commenter states that the AD should not apply to airplanes that Pilatus has not yet produced.

What is FAA's response to the concern? As FAA explained in the NPRM, there is a possibility that these parts might have been removed from the affected serial number aircraft and installed on other serial numbers not included in the FOCA AD or Pilatus service bulletin. Therefore, we are including all serial numbers in the effectivity of this AD. To relieve the burden, FAA has included in the AD a logbook check for the affected S/N main landing gear actuators.

The manufacturer should ensure that any MLG actuator P/N 960.30.01.103 with SNs 830E through 881E is not installed at the factory and include a statement of compliance with this FAA AD in the logbook of any new manufactured aircraft.

Also, the only assurance that FAA has that the suspect parts are not installed in the future on Pilatus Models PC-12 and PC-12/45 airplanes is through AD action.

We are not changing the final rule AD action based on these comments.

Conclusion

What is FAA's final determination on this issue? We have carefully reviewed the available data and determined that air safety and the public interest require adopting the AD as proposed except for the changes discussed above and minor editorial corrections. We have determined that these changes and minor corrections:

• Are consistent with the intent that was proposed in the NPRM for correcting the unsafe condition; and

• Do not add any additional burden upon the public than was already proposed in the NPRM.

Docket Information

Where can I go to view the docket information? You may view the AD docket that contains information relating to this subject in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 260 airplanes in the U.S. registry.

What is the cost impact of this AD on owners/operators of the affected airplanes? We estimate the following costs to do the inspection:

Labor cost | Parts cost | Total cost per airplane | Total cost on U.S. operators
1 work hour × $65 per hour = $65 | Not Applicable | $65 | 260 × $65 = $16,900.

We estimate the following costs to do any necessary replacement that would be required based on the results of this inspection. We have no way of determining the number of airplanes that may need this replacement:

Labor cost | Parts cost | Total cost per airplane
3 work hours × $65 per hour = $195 per MLG actuator | Not Applicable | $195.

Pilatus will provide replacement parts free of charge if any MLG actuator with a SN 830E through 881E is returned to Pilatus. If purchased, the cost of a new actuator is $14,000. The cost of an overhauled actuator is $5,000.

Authority for this Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19221; Directorate Identifier 2004-CE-28-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-01-11 Pilatus Aircraft Ltd.: Amendment 39-13935; Docket No. FAA-2004-19221; Directorate Identifier 2004-CE-28-AD.

When Does This AD Become Effective?

(a) This AD becomes effective on February 22, 2005.

What Other ADs Are Affected by This Action?

(b) None.

What Airplanes Are Affected by This AD?

(c) This AD affects Models PC-12 and PC-12/45 airplanes, all serial numbers, that are certificated in any category.

What Is the Unsafe Condition Presented in This AD?

(d) This AD is the result of mandatory continuing airworthiness information (MCAI) issued by the airworthiness authority for Switzerland. The actions specified in this AD are intended to prevent failure of the MLG actuator caused by an incorrect heat treating process, which could result in loss of hydraulic extension/retraction of the MLG. This failure could lead to loss of control during ground operations.

What Must I Do To Address This Problem?

(e) To address this problem, you must do the following:

Actions | Compliance | Procedures
(1) Check the airplane logbook to ensure that no main landing gear (MLG) actuator (part number (P/N) 960.30.01.103) with serial numbers (SN) 830E through 881E is installed | Within 90 days after February 22, 2005 (the effective date of this AD), unless already done | The owner/operator holding at least a private pilot certificate as authorized by section 43.7 of the Federal Aviation Regulations (14 CFR 43.7) may do this check.
(2) If you can positively determine that no MLG actuator (P/N 960.30.01.103) with SN 830E through 881E is installed, then no further action is required | Not Applicable | Make an entry in the aircraft records showing compliance with paragraphs (e)(1) and (e)(2) of this AD per section 43.9 of the Federal Aviation Regulations (14 CFR 43.9).
(3) If you cannot positively determine that no MLG actuator (P/N 960.30.01.103) with SN 830E through 881E is installed, then inspect any MLG actuator (P/N 960.30.01.103) for SN 830E through 881E | Within 90 days after February 22, 2005 (the effective date of this AD), unless already done | Follow the Accomplishment Instructions—Aircraft section in Pilatus PC-12 Service Bulletin No. 32-017, dated August 3, 2004.
(4) If any MLG actuator (P/N 960.30.01.103) with SN 830E through 881E is found during the inspection required by paragraph (e)(3) of this AD, replace the MLG actuator with a P/N 960.30.01.103 actuator that has a SN other than 830E through 881E | Before further flight after the inspection required by paragraph (e)(3) of this AD in which any actuator with SN 830E through 881E is found | Follow the Accomplishment Instructions—Aircraft section in Pilatus PC-12 Service Bulletin No. 32-017, dated August 3, 2004.
(5) Do not install any MLG actuator (P/N 960.30.01.103) with SN 830E through 881E | As of February 22, 2005 (the effective date of this AD) | Not Applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug Rudolph, Aerospace Engineer, FAA, Small Airplane Directorate, 901 Locust, Room 301, Kansas City, Missouri 64106; telephone: (816) 329-4059; facsimile: (816) 329-4090.

Is There Other Information That Relates to This Subject?

(g) Swiss AD Number HB 2004-330, dated August 18, 2004, also addresses the subject of this AD.

Does This AD Incorporate Any Material by Reference?

(h) You must do the actions required by this AD following the instructions in Pilatus PC-12 Service Bulletin No. 32-017, dated August 3, 2004. The Director of the Federal Register approved the incorporation by reference of this service bulletin in accordance with 5 U.S.C. 552(a) and 1 CFR part 51. To get a copy of this service information, contact Pilatus Aircraft Ltd., Customer Liaison Manager, CH-6371 Stans, Switzerland; telephone: +41 41 619 6208; facsimile: +41 41 619 7311; e-mail: SupportPC12@pilatus-aircraft.com or from Pilatus Business Aircraft Ltd., Product Support Department, 11755 Airport Way, Broomfield, Colorado 80021; telephone: (303) 465-9099; facsimile: (303) 465-6040. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19221.

Issued in Kansas City, Missouri, on December 28, 2004.
David A. Downey,
Acting Manager, Small Airplane Directorate, Aircraft Certification Service.

[FR Doc. 05-185 Filed 1-6-05; 8:45 am]

BILLING CODE 4910-13-P